DEPARTMENT OF AGRICULTURE

Rural Business-Cooperative Service

Notice of Funds Availability for the Rural Microentrepreneur Assistance Program for Fiscal Year 2013

AGENCY: Rural Business-Cooperative Service, USDA.

ACTION: Notice.

SUMMARY: This Notice announces the funds available for loans and grants under the Rural Microentrepreneur Assistance Program (RMAP) pursuant to 7 CFR part 4280, subpart D for fiscal year (FY) 2013.

Total Funding: $12,224,613.35

Technical Assistance (TA) Only Grants: $300,000

Microlender TA Grants: $1,209,696.97

Loans: $10,714,916.38

The minimum loan amount a Microenterprise Development Organization (MDO) may borrow under this program is $50,000. The maximum loan any MDO may borrower in any given year is $500,000. The maximum amount of Technical Assistance (TA)-only grants in FY 2013 is $30,000 per grantee and total TA-only grants funding will not exceed 10 percent of the amount appropriated to the RMAP program in the fiscal year. The commitment of program dollars will be made to applicants of selected responses that have fulfilled the necessary requirements for obligation.

All applicants are responsible for any expenses incurred in developing their applications.

DATES: Applications will be accepted on a quarterly basis using Federal fiscal quarters; however the June 30, 2013, quarterly deadline is extended to September 13, 2013. Completed applications must be received in the U.S. Department of Agriculture (USDA) Rural Development State Offices no later than the deadline of September 13, 2013, to be considered for funds available in FY 2013. Applications received after a Federal fiscal quarter deadline will be reviewed and evaluated for funding in the next Federal fiscal quarter. Completed applications received after September 13, 2013, may be considered for funding in FY 2013 subject to the availability of funds or will be considered for funds available in FY 2014.

ADDRESSES: Applications and forms may be obtained from any Rural Development State Office. Applicants must submit an original complete application to the USDA Rural Development State Office in the State where the applicant's headquarters is located. A list of the USDA Rural Development State Offices addresses and telephone numbers are listed below.

Note: Telephone numbers listed are not toll-free.

Alabama

USDA Rural Development State Office, Sterling Centre, Suite 601, 4121 Carmichael Road, Montgomery, AL 36106-3683, (334) 279-3400/TDD (334) 279-3495

Alaska

USDA Rural Development State Office, 800 West Evergreen, Suite 201, Palmer, AK 99645-6539, (907) 761-7707/TDD (907) 761-7783

Arizona

USDA Rural Development State Office, 230 N. 1st Ave., Suite 206, Phoenix, AZ 85003-1706, (602) 280-8701/TDD (602) 280-8881

Arkansas

USDA Rural Development State Office, 700 West Capitol Avenue, Room 3416, Little Rock, AR 72201-3225, 7(501) 301-3200/TDD (501) 301-3278

California

USDA Rural Development State Office, 430 G Street, # 4169, Davis, CA 95616-4169, (530) 792-5800/TDD (530) 792-5837

Colorado

USDA Rural Development State Office, Denver Federal Center, Building 56, Room 2300, P.O. Box 25426, Denver, CO 80225-0426, (720) 544-2903/TDD (720) 544-2981

Delaware-Maryland

USDA Rural Development State Office, 1221 College Park Drive, Suite 200, Dover, DE 19904, (302) 857-3580/TDD (302) 857-3640

Florida/Virgin Islands

USDA Rural Development State Office, 4440 NW 25th Place, Gainesville, FL 32614-7010, (352) 338-3400/TDD (352) 338-3405

Georgia

USDA Rural Development State Office, Stephens Federal Building, 355 E. Hancock Avenue, Athens, GA 30601-2768, (706) 546-2162/TDD (706) 546-2152

Hawaii

USDA Rural Development State Office, Federal Building, Room 311, 154 Waianuenue Avenue, Hilo, HI 96720, (808) 933-8380/TDD (808) 933-8327

Idaho

USDA Rural Development State Office, 9173 West Barnes Dr., Suite A1, Boise, ID 83709, (208) 378-5600/TDD (208) 378-5643

Illinois

USDA Rural Development State Office, 2118 West Park Court, Suite A, Champaign, IL 61821, (217) 403-6200/TDD (217) 403-6243

Indiana

USDA Rural Development State Office, 5975 Lakeside Boulevard, Indianapolis, IN 46278, (317) 290-3100 Ext. 4/TDD (317) 290-3127

Iowa

USDA Rural Development State Office, Federal Building, Room 873, 210 Walnut Street, Des Moines, IA 50309, (515) 284-4663/TDD (515) 284-4858

Kansas

USDA Rural Development State Office, 1303 SW. First American Place, Suite 100, Topeka, KS 66604-4040, (785) 271-2700/TDD (785) 271-2708

Kentucky

USDA Rural Development State Office, 771 Corporate Drive, Suite 200, Lexington, KY 40503, (859) 224-7300/TDD (859) 224-7340

Louisiana

USDA Rural Development State Office, 3727 Government Street, Alexandria, LA 71302, (318) 473-7920/TDD (318) 473-7661

Maine

USDA Rural Development State Office, 967 Illinois Avenue, Suite 4, Bangor, ME 04401-2767, (207) 990-9160/TDD (207) 942-7331

Massachusetts/Rhode Island/Connecticut

USDA Rural Development State Office, 451 West Street, Suite 2, Amherst, MA 01002-2999, (413) 253-4300/TDD (413) 253-4347

Michigan

USDA Rural Development State Office, 3001 Coolidge Road, Suite 200, East Lansing, MI 48823, (517) 324-5190/TDD (517) 324-5225

Minnesota

USDA Rural Development State Office, 375 Jackson Street, Suite 410, St. Paul, MN 55101-1853, (651) 602-7800/TDD (651) 602-7824

Mississippi

USDA Rural Development State Office, Federal Building, Suite 831, 100 W. Capitol Street, Jackson, MS 39269-1608, (601) 965-4316/TDD (601) 965-4088

Missouri

USDA Rural Development State Office, 601 Business Loop 70 West, Parkade Center, Suite 235, Columbia, MO 65203-2579, (573) 876-0976/TDD (573) 876-0977

Montana

USDA Rural Development State Office, 2229 Boot Hill Court, Bozeman, MT 59715, (406) 585-2530/TDD (406) 585-2565

Nebraska

USDA Rural Development State Office, Federal Building, Room 152, 100 Centennial Mall North, Lincoln, NE 68508-3859, (402) 437-5551/TDD (402) 437-5408

Nevada

USDA Rural Development State Office, 1390 South Curry Street, Carson City, NV 89703-9910, (775) 887-1222/TDD (775) 885-0841

New Jersey

USDA Rural Development State Office, 8000 Midlantic Drive, 5th Floor North, Suite 500, Mt. Laurel, NJ 08054-1522, (856) 787-7700/TDD (856) 787-7783

New Mexico

USDA Rural Development State Office, 6200 Jefferson Street, NE., Room 255, Albuquerque, NM 87109-3434, (505) 761-4950/TDD (505) 761-4976

New York

USDA Rural Development State Office, The Galleries of Syracuse, 441 South Salina Street, Suite 357, Syracuse, NY 13202-2541, (315) 477-6400/TDD (315) 477-6438

North Carolina

USDA Rural Development State Office, 4405 Bland Road, Suite 260, Raleigh, NC 27609, (919) 873-2000/TDD (919) 873-2075

North Dakota

USDA Rural Development State Office, Federal Building, Room 208, 220 East Rosser, Bismarck, ND 58502-1737, (701) 530-2037/TDD (701) 530-2111

Ohio

USDA Rural Development State Office, Federal Building, Room 507, 200 North High Street, Columbus, OH 43215-2418, (614) 255-2400/TDD (614) 255-2561

Oklahoma

USDA Rural Development State Office, 100 USDA, Suite 108, Stillwater, OK 74074-2654, (405) 742-1000/TDD (405) 742-1005

Oregon

USDA Rural Development State Office, 1201 NE Lloyd Blvd., Suite 801, Portland, OR 97232-1274, (503) 414-3300/TDD (503) 414-3387

Pennsylvania

USDA Rural Development State Office, One Credit Union Place, Suite 330, Harrisburg, PA 17110-2996, (717) 237-2299/TDD (717) 237-2191

Puerto Rico

USDA Rural Development State Office, IBM Building, Suite 601, 654 Munos Rivera Avenue, San Juan, PR 00936-6106, (787) 766-5095/TDD (787) 766-5844

South Carolina

USDA Rural Development State Office, Strom Thurmond Federal Building, 1835 Assembly Street, Room 1007, Columbia, SC 29201-2449, (803) 765-5163/TDD (803) 765-5697

South Dakota

USDA Rural Development State Office, Federal Building, Room 210, 200 Fourth Street, SW, Huron, SD 57350-2461, (605) 352-1100/TDD (605) 352-1146

Tennessee

USDA Rural Development State Office, 3322 West End Avenue, Suite 300, Nashville, TN 37203-1071, (615) 783-1300/FAX (615) 783-1301

Texas

USDA Rural Development State Office, Federal Building, Suite 102, 101 South Main, Temple, TX 76501-7651, (254) 742-9700/TDD (254) 742-9709

Utah

USDA Rural Development State Office, Wallace F. Bennett Federal Building, 125 South State Street, Room 4311, Salt Lake City, UT 84138-1106, (801) 524-4320/TDD (801) 524-4406

Vermont/New Hampshire

USDA Rural Development State Office, 87 Main Street, Suite 324, P.O. Box 249, Montpelier, VT 05601, (802) 828-6080/TDD (802) 828-6076

Virginia

USDA Rural Development State Office, Culpeper Building, Suite 238, 1606 Santa Rosa Road, Richmond, VA 23229-5014, (804) 287-1550/TDD (804) 287-1753

Washington

USDA Rural Development State Office, 1835 Black Lake Boulevard SW., Suite B, Olympia, WA 98512-5715, (360) 704-7740/TDD (360) 704-7742

West Virginia

USDA Rural Development State Office, 1550 Earl Core Road, Suite 101, Morgantown, WV 26505, (304) 284-4860/TDD (304) 284-4891

Wisconsin

USDA Rural Development State Office, 5417 Clem's Way, Stevens Point, WI 54482, (715) 345-7600/TDD (715) 345-7669

Wyoming

USDA Rural Development State Office, Dick Chaney Federal Building, 100 East B Street, Room 1005, Casper, WY 82602-5006, (307) 233-6700/TDD (307) 233-6727

FOR FURTHER INFORMATION CONTACT: For further information on this Notice, please contact the USDA Rural Development State Office for your respective State, as provided in the ADDRESSES section of this Notice.

SUPPLEMENTARY INFORMATION:

Environmental Impact Statement

This document has been reviewed in accordance with 7 CFR part 1940, subpart G, “Environmental Program.” Rural Development has determined that this action does not constitute a major Federal action significantly affecting the quality of the human environment, and in accordance with the National Environmental Policy Act (NEPA) of 1969, 42 U.S.C. 4321 et seq., an Environmental Impact Statement is not required.

Paperwork Reduction Act

In accordance with the Paperwork Reduction Act, the paperwork burden associated with this Notice has been approved by the Office of Management and Budget (OMB) under OMB Control Number 0570-0062.

Overview

Federal Agency Name: Rural Business-Cooperative Service (an agency of the U.S. Department of Agriculture in the Rural Development mission area).

Solicitation Opportunity Title: Rural Microentrepreneur Assistance Program.

Announcement Type: Initial announcement.

Catalog of Federal Domestic Assistance Number (CFDA): The CFDA number for this Notice is 10.870.

DATES: Applications will be accepted on a quarterly basis using Federal fiscal quarters; however the June 30, 2013, quarterly deadline is extended to September 13, 2013. Completed applications must be received in the U.S. Department of Agriculture (USDA) Rural Development State Offices no later than the deadline of September 13, 2013, to be considered for funds available in FY 2013. Applications received after a Federal fiscal quarter deadline will be reviewed and evaluated for funding in the next Federal fiscal quarter. Completed applications received after September 13, 2013, may be considered for funding in FY 2013 subject to the availability of funds or will be considered for funds available in FY 2014.

Availability of Notice and Rule. This Notice and the interim rule for RMAP are available on the USDA Rural Development Web site at http://www.rurdev.usda.gov/BCP_RMAP.html.

I. Funding Opportunity Description

A. Purpose of the Program. The purpose of RMAP is to support the development and ongoing success of rural microentrepreneurs and microenterprises (businesses generally with 10 employees or fewer and in need of financing in the amount of $50,000 or less as defined in 7 CFR 4280.302).

Assistance provided to rural areas under this program may include the provision of loans and grants to rural MDOs for the provision of microloans to rural microenterprises and microentrepreneurs; provision of business-based training and technical assistance to rural microborrowers and potential microborrowers; and other such activities as deemed appropriate by the Secretary to ensure the development and ongoing success of rural microenterprises.

B. Statutory Authority. The RMAP is authorized by Section 379E of the Consolidated Farm and Rural Development Act (7 USC 2008s). Regulations are contained in 7 CFR Part 4280, subpart D.

C. Definition of Terms. The definitions applicable to this Notice are published at 7 CFR 4280.302.

II. Award Information

A. Type of Award: Loan and/or Grant.

B. Fiscal Year Funds: FY 2013.

C. Total Funding: $12,224,613.35.

Technical Assistance (TA) Only Grants: $300,000.

Microlender TA Grants; $1,209,696.97.

Loans: $10,714,916.38.

D. Approximate Number of Awards: 50.

E. Anticipated Award Date:

• Fourth Quarter, August 31, 2013.

In the event some program funds allocated for a particular quarter of FY 2013 are not obligated, the remaining unobligated funds will be carried over to the next Federal fiscal quarter. Any FY 2013 funds not obligated under this Notice will be carried over into FY 2014.

III. Eligibility Information

A. Eligible applicants. To be eligible for this program, the applicant must meet the eligibility requirements in 7 CFR 4280.310. As mentioned later in this Notice, regarding corporate Federal tax delinquencies, applicants that are not delinquent on any Federal debt or otherwise disqualified from participation in this program are eligible to apply. All other restrictions in this Notice will apply.

Corporate Felony Convictions and Corporate Felony Tax Delinquencies

Applications from corporate applicants, submitted under this Notice must include Form AD 3030, “Representations Regarding Felony Conviction and Tax Delinquent Status for Corporate Applicants.” Awards to corporate applicants, under this Notice will be required to sign Form AD 3031, “Assurance Regarding Felony Conviction or Tax Delinquent Status for Corporate Applicants.”

B. Cost share requirements. The Federal share of the eligible project cost of a microborrower's project funded under this Notice shall not exceed 75 percent. The cost share requirement shall be met by the microlender in accordance with the requirements specified in 7 CFR 4280.311(d).

C. Matching fund requirements. The MDO is required to provide a match of not less than 15 percent of the total amount of the grant in the form of matching funds, indirect costs, or in-kind goods or services.

D. Other eligibility requirements. Applications will only be accepted from eligible MDOs. Eligible MDOs must score a minimum of 70 points out of 100 points to be considered to receive an award. Awards each Federal fiscal quarter will be based on ranking with the highest ranking applications being funded first, subject to available funding.

E. Completeness eligibility. All applications must be submitted as a complete application, in one package. Applications will not be considered for funding if they do not provide sufficient information to determine eligibility or are unbound, falling apart, or otherwise not suitable for evaluation. Such applications will be withdrawn.

IV. Fiscal Year 2013 Application and Submission Information

A. Application submittal. MDOs may submit an initial application for a loan with a microlender technical assistance grant or an initial or subsequent loan only (without a microlender technical assistance grant.) or a TA-only grant only. A MDO does not need to submit an application for its microlender technical assistance grant. The procedures for annual microlender technical assistance grants are addressed in section VI.

Loan applications must be submitted in paper format. Grant applications may be submitted in either paper or electronic format via Grants.gov. If applications are submitted in paper format, they must be bound in a 3-ring binder and must be organized in the same order set forth in 7 CFR 4280.315. To ensure timely delivery, applicants are strongly encouraged to submit their applications using an overnight, express, or parcel delivery service.

Applicants are encouraged to submit grant only applications through the Grants.gov Web site at: http://www.grants.gov. Users of Grants.gov will be able to download a copy of the grant application package, complete it off line, and then upload and submit the application via the Grants.gov Web site. USDA Rural Development strongly encourages applicants not to wait until the application deadline date to begin the application process through Grants.gov.

When applicants enter the Grants.gov Web site, they will find information about submitting a grant application electronically through the site as well as the hours of operation. Applicants may submit all documents electronically through the Web site, including all information required for a complete grant application and all necessary assurances and certifications under 7 CFR 4280.315. After electronically submitting an application through the Web site, the applicant will receive an automatic acknowledgement from Grants.gov that contains a Grants.gov tracking number. USDA Rural Development may request that the applicant provide original signatures on forms at a later date.

Please note that applicants can locate the downloadable application package for this program by the Catalog of Federal Domestic Assistance Number, which is 10.870, or FedGrants Funding Opportunity Number, which can be found at http://www.Grants.gov.

Federal Funding Accountability and Transparency Act. All applicants, in accordance with 2 CFR Part 25, must have a Dun and Bradstreet Data Universal Number System (DUNS) number, which can be obtained at no cost via a toll-free request line at 1-866-705-5711 or online at http://fedgov.dnb.com/webform. Similarly, all applicants for grants must be registered in the System for Award Management (SAM) prior to submitting an application. Applicants may register for the SAM at http://www.sam.gov. All recipients of Federal financial assistance are required to report information about first-tier sub-awards and executive total compensation in accordance with 2 CFR Part 170.

B. Content and form of submission. An application must contain all of the required elements outlined in 7 CFR 4280.315. Each application must address the applicable scoring criteria presented in 7 CFR 4280.316 for the type of funding being requested.

C. Submission dates and times. The original complete application must be received by the USDA Rural Development State Office no later than 4:30 p.m. local time by the application deadline dates listed above, regardless of the postmark date, in order to be considered for funds available in that Federal fiscal quarter.

Unless withdrawn by the applicant, completed applications that receive a score of at least 70 (the minimum required to be considered for funding), but have not yet been funded, will be retained by the Agency for consideration in subsequent reviews through a total of four consecutive quarterly reviews. Applications that remain unfunded after four quarterly reviews, including the initial quarter in which the application was competed, will not be considered further for an award.

V. Application Review Information

Awards under this Notice will be made on a competitive basis each Federal fiscal quarter. Each application received in the USDA Rural Development State Office will be reviewed, scored, and ranked to determine if it is consistent with the program requirements. Applications will be scored based on the applicable scoring criteria contained in 7 CFR 4280.316. Failure to address any of the applicable scoring criteria will result in a zero-point score for that section. An application must receive at least 70 points to be considered for funding in the quarter in which it is scored.

VI. Subsequent Annual Microlender Technical Assistance Grants

In accordance with 7 CFR 4280-D, section 4280.313(b)(2), “Microlender Technical Assistance (TA) grants will be limited to an amount equal to not more than 25 percent of the total outstanding balance of microloans made under this program and active by the microlender as of the date the grant is awarded for the first $400,000 plus an additional 5 percent of the loan amount owed by the microborrowers to the lender under this program over $400,000 up to and including $2.5 million. Funds cannot be used to pay off the loans. Any grant dollars obligated, but not spent, from the initial grant, will be subtracted from the subsequent year grant to ensure that obligations cover only microloans made and active.”

To determine the Microlender TA Grant awards for FY 2013, the Agency will use the Microlender's outstanding balance of microloans as of June 30, 2013, to calculate this amount. MDO's that are eligible for an annual grant may apply.

Awards will be determined non-competitively based on Agency appropriations for the fiscal year. The MDO must submit a prescribed worksheet listing outstanding balance of their microloans and unexpended grant funds as of the date of their request, a signed SF 424 and a letter certifying that their organization still meets all the requirements set forth in 7 CFR 4280 and that no significant changes have occurred within the last year that would affect its ability to carry out their MDO functions. In addition, all MDOs who request Subsequent Annual Microlender Technical Assistance Grants must complete their reporting into the Lenders Interactive Network Connection (LINC) for the Federal fiscal quarter ending June 30, 2013. The application deadline for this assistance is no later than 4:30 p.m. (local time) on July 31, 2013.

VII. Award Administration Information

Successful applicants will receive notification for funding from the USDA Rural Development State Office. Applicants must comply with all applicable statutes and regulations before the award will be approved. Unsuccessful applications will receive notification by mail.

VIII. Agency Contacts

For general questions about this Notice, please contact your USDA Rural Development State Office as provided in the Addresses section of this Notice.

Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and you wish to file either an EEO or program complaint please contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: July 30, 2013.
Lillian E. Salerno,
Acting Administrator, Rural Business-Cooperative Service.

[FR Doc. 2013-19765 Filed 8-13-13; 8:45 am]

BILLING CODE 3410-XY-P